DEPARTMENT OF ENERGY

Federal Energy Regulatory Commission

[Docket No. RP00-632-006]

Dominion Transmission, Inc.; Notice of Errata Filing

October 2, 2001.

Take notice that on September 27, 2001, Dominion Transmission Inc. (DTI), tendered for filing as part of its FERC Gas Tariff, Third Revised Volume No. 1, the following tariff sheets:

Substitute Second Revised Sheet No. 1121

Substitute Second Revised Sheet No. 1122

Substitute First Revised Sheet No. 1123

DTI requests an effective date of November 1, 2001 for these proposed tariff sheets which are submitted to replace the original sheets submitted in its September 21, 2001 filing to incorporate additional language approved in the Settlement (proposed GT&C Sections 16.6 through 16.9) and reserves two sheets for future use in accordance with the Commission's requirements.

DTI states that copies of this filing are being served upon DTI's customers and interested state commissions and to the parties to the proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25208 Filed 10-5-01; 8:45 am]

BILLING CODE 6717-01-P